GOVERNMENT ACCOUNTABILITY OFFICE

Appointments to the Medicare Payment Advisory Commission

AGENCY: Government Accountability Office (GAO)

ACTION: Notice of appointments.

SUMMARY: The Balanced Budget Act of 1997 established the Medicare Payment Advisory Commission (MedPac) and gave the Comptroller General responsibility for appointing its members. This notice announces four new appointments and two reappointments to fill the vacancies occurring this year.

DATES: Appointments are effective May 1, 2006 through April 30, 2009.

ADDRESSES: GAO: 441 G Street, NW, Washington, DC 20548; MedPac: 601 New Jersey Avenue, NW., Suite 9000, Washington, DC 20001.

FOR FURTHER INFORMATION CONTACT: GAO: Office of Public Affairs, (202) 512-4800; MedPac: Mark E. Miller, Ph.D., (202) 220-3700.

SUPPLEMENTARY INFORMATION: To fill this year's vacancies I am announcing the following:

Newly appointed members are Mitra Behroozi, J.D., executive director, 1199SEIU Benefit and Pension Funds; Karen R. Borman, M.D., professor of surgery and vice-chair for surgical education, University of Mississippi Medical Center, Ronald D. Castellanos, M.D., physician, Southwest Florida Urologic Associates; and Douglas Holtz-Eakin, Ph.D., director, Maurice R. Greenberg Center for Geoeconomic Studies and Paul A. Volcker Chair in International Economics, Council on Foreign Relations.

Reappointed members are Glenn M. Hackbarth, J.D. (chair), independent consultant; and Robert D. Reischauer, Ph.D. (vice chair), president, the Urban Institute.

(Sec. 4022, Pub. L. 105-33, 111 State. 251, 350)

David M. Walker,
Comptroller General of the United States.

[FR Doc. 06-4486 Filed 5-12-06; 8:45 am]

BILLING CODE 1610-02-M